ENVIRONMENTAL PROTECTION AGENCY

40 CFR Part 35

[EPA-HQ-OW-2006-0765; FRL-8274-7]

Proposed NPDES Permit Fee Incentive for Clean Water Act Section 106 Grants—Allotment Formula; Public Meeting

AGENCY: Environmental Protection Agency (EPA).

ACTION: Notice of public meeting.

SUMMARY: The Environmental Protection Agency hereby gives notice that it will conduct one public meeting on the proposed regulatory revision: NPDES Permit Fee Incentive for Clean Water Act Section 106 Grants; Allotment Formula. This proposed rule was published in the Federal Register on January 4, 2007 (72 FR 293), under the title “NPDES Permit Fee Incentive for Clean Water Act Section 106 Grants; Allotment Formula.”

The purpose of the meeting is to enhance public understanding of the proposed regulation and to provide the public with an opportunity to provide oral and written comments to EPA regarding the proposed regulation. Oral comments given during the public meeting will be transcribed and included in the docket. Written comments will be submitted to the docket as well. The meeting provides a mechanism for submitting formal comments on the proposal. The meeting will consist of a presentation by EPA officials on the proposed regulation followed by a public comment session. Each commenter will be allowed a set amount of time to provide oral comments to EPA. Where appropriate, EPA will provide clarification regarding the proposed rule. Participants are encouraged to familiarize themselves with the basic aspects of the proposed regulation prior to the public meeting. Advance registration is not required.

DATES: The public meeting will be held on February 21, 2007.

ADDRESSES: The public meeting will be held from 1 p.m. to 4 p.m. EST in Washington, DC at EPA Headquarters, EPA East Building, 1200 Pennsylvania Avenue, NW., Washington, DC 20460, Conference Room 1153.

FOR FURTHER INFORMATION CONTACT: For additional information, please visit the EPA Web site at http://www.epa.gov/owm/cwfinance/npdes-permit-fee.htm, or contact Lena Ferris, Office of Water, Office of Wastewater Management (4201M), U.S. Environmental Protection Agency, 1200 Pennsylvania Ave., NW., Washington, DC 20460; telephone number: (202) 564-8831; fax number: (202) 501-2399; e-mail address: ferris.lena@epa.gov.

SUPPLEMENTARY INFORMATION: EPA has established a sixty-day comment period for the proposed rule. The comment period ends on March 5, 2007. In scheduling this public meeting, EPA wishes to provide the public the opportunity to be fully informed about the contents of the proposed rule in advance of the date by which comments must be submitted. EPA is utilizing its Web site, which will be updated with any changes pertaining to this public meeting, as the principal means of providing information about this public meeting. EPA recommends that those interested in attending the meeting check the site for any additional information or logistical changes, as they become available.

Background: The proposed regulation, published in the Federal Register on January 4, 2007, provides a financial incentive to States to utilize an adequate fee program when implementing an authorized NPDES permit program. The Agency is proposing to revise the Section 106 grant allotment formula to include a permit fee incentive as part of the allotment process.

Dated: January 24, 2007.
Judy S. Davis,
Acting Office Director, Office of Wastewater Management, Office of Water.

[FR Doc. E7-1420 Filed 1-29-07; 8:45 am]

BILLING CODE 6560-50-P